DEPARTMENT OF COMMERCE

National Institute of Standards and Technology

Consortium on “Concrete Rheology: Enabling Metrology (CREME)”: Membership Fee Update

AGENCY: National Institute of Standards and Technology, Commerce.

ACTION: Notice.

SUMMARY: On October 25, 2011, the National Institute of Standards and Technology (NIST) published a notice of a public meeting, which was held on November 8, 2011, to explore the feasibility of establishing a NIST/Industry Consortium on Concrete Rheology: Enabling Metrology (CREME)”. The notice stated that membership fees for participation in the CREME consortium would be Twenty-five Thousand ($25,000) per year. As a result of the November 8, 2011, public meeting, revisions have been made to the membership fee structure.

DATES: This notice is effective on April 30, 2012.

ADDRESSES: Questions about joining the consortium should be sent to Chiara Ferraris at the National Institute of Standards and Technology; 100 Bureau Drive; MS 8615; Gaithersburg, MD 20899-8615.

FOR FURTHER INFORMATION CONTACT: Chiara Ferraris or Nicos Martys via email at chiara.ferraris@nist.gov; nicos.martys@nist.gov or telephone at (301) 975-6711 or (301) 975-5915.

SUPPLEMENTARY INFORMATION:

CREME Consortium Description

The goal of the CREME consortium is to predict the pumpability of a grout/mortar or a concrete from the rheological properties of the materials and the geometry/material of the pipe. This goal will be achieved by developing test methods and models to measure and predict the performance parameters of grout. It is expected that the conclusions obtained for grout could be extrapolated for concrete. To move these ideas into practice and to engage industry, test bed facilities and quality control test methods for the field will be developed at NIST. The consortium will be administered by NIST. Consortium planning, research and development will be conducted by NIST staff along with at least one technical representative from each participating member company. Each member of the consortium will be required to sign a Cooperative Research and Development Agreement (“CRADA”) with NIST.

At the November 8, 2011 public meeting, organizations interested in participating in the CREME Consortium discussed membership fees and agreed to the following revisions to the membership fee structure. Initial membership fees will be Twenty Five Thousand Dollars ($25,000) per year payable by Member to NIST at the time of CRADA execution and annually thereafter, or an in-kind contribution, equitable in value and mutually acceptable to NIST and Member. In recognition of the contributions made and risks taken by the initial Consortium Members, the membership fee for Consortium Members who join after the first year will be Fifty Thousand Dollars ($50,000) or mutually acceptable to NIST and Member in-kind contribution the first year and Twenty Five Thousand Dollars ($25,000) or mutually acceptable to NIST and Member in-kind contribution each year thereafter.

Dated: April 23, 2012.
Willie E. May,
Associate Director for Laboratory Programs.

[FR Doc. 2012-10265 Filed 4-27-12; 8:45 am]

BILLING CODE 3510-13-P